DEPARTMENT OF COMMERCE

International Trade Administration

Amended Trade Mission Date and Application Deadline to the Aerospace Trade Mission to India and Amended Date for the Clean Air Trade Mission (Virtual) to India

AGENCY: International Trade Administration, Department of Commerce.

ACTION: Notice.

SUMMARY: The United States Department of Commerce, International Trade Administration, is announcing amended dates for the following upcoming trade missions that were previously announced and published in the Federal Register:

• Aerospace Trade Mission to India, originally scheduled from June 21-24, 2022, is postponed to September 19-23, 2022. The application deadline is extended to August 1, 2022.

• Clean Air Trade Mission to India (Virtual) previously scheduled for May 4-6, 2022, is postponed to June 28-30, 2022. The application deadline, previously published in the Federal Register, remains March 15, 2022.

SUPPLEMENTARY INFORMATION: Amendments to Revise the Trade Mission Dates and Deadline for Submitting Applications as Applicable.

Background

Aerospace Trade Mission to India

The International Trade Administration has determined that to allow for optimal execution of recruitment and event scheduling for the mission, the dates of the mission are postponed from June 21-24, 2022 to September 19-23, 2022. As a result of the shift of the event dates the application deadline is revised to August 1, 2022. Applications may be accepted after that date if space remains and scheduling constraints permit. Interested U.S. companies and trade associations/organizations that have not already submitted an application are encouraged to do so. The U.S. Department of Commerce will review applications and make selection decisions on a rolling basis in accordance with the 87 FR 2130 (January 13, 2022). The applicants selected will be notified as soon as possible. The proposed schedule is updated as follows:

Proposed Timetable

Monday, September 19, 2022

• Trade Mission Participants Arrive in New Delhi, India

Tuesday, September 20, 2022

• Plenary Session—U.S. Embassy officials welcome delegation

• Market Briefing: The Aerospace Sector in India—Opportunities and Challenges

• B2B and B2G Meetings for Mission Delegates in Delhi

• Site visit at AIESL MRO workshops (TBC)

• Reception Hosted by trade association or other organization

Wednesday, September 21, 2022

• B2B and B2G Meetings for Mission Delegates in Delhi

• Flight to Hyderabad

• Networking Reception Hosted by Local Chamber (TBC)

Thursday, September 22, 2022

• B2B and B2G Meetings for Mission Delegates in Hyderabad

• Departure for Optional Spin-Offs

Friday, September 23, 2022

• B2B and B2G Meetings in Spin-Off Locations (Mumbai/Bengaluru)

• Departure for the United States

Contact

1. Geoffrey Parish, Principal Commercial Officer, North India, U.S. Commercial Service, New Delhi, India, Tel: +91-11-2347 2000, Email: geoffrey.parish@trade.gov

2. Raghavan Srinivasan, Commercial Officer, U.S. Commercial Service, New Delhi, India, Tel: +91-11-2347 2000, Email: Raghavan.Srinivasan@trade.gov

3. Nisha Wadhawan, Commercial Specialist, U.S. Commercial Service, New Delhi, India, Tel: +91-11-2347 2000, Email: nisha.wadhawan@trade.gov

4. Shamli Menon, Commercial Specialist, U.S. Commercial Service, Mumbai, India

5. Theodate Immanuel, Commercial Specialist, U.S. Commercial Service, Hyderabad, India

6. Manjushree Phookan, Commercial Specialist, U.S. Commercial Service, Bengaluru, India

7. Amy Magat, Sr., International Trade Specialist, U.S. Commercial Service, Downtown Los Angeles, Tel: +1 (213) 276-2990, Email: amy.magat@trade.gov

8. Oscar Magaña, International Trade Specialist, U.S. Commercial Service, San Antonio, TX, Tel: +1 (210) 419-3043, Email: oscar.magana@trade.gov

9. Meredith Boyle, International Trade Specialist (Aerospace & Defense), Office of Transportation and Machinery, Tel: +202-839-2347, Email: meredith.boyle@trade.gov

Background

Clean Air Trade Mission to India (Virtual)

The United States Department of Commerce, International Trade Administration, is amending the Notice published at 87 FR 9316 (February 18, 2022), announcing the postponement of the Clean Air Trade Mission to India being held virtually from May 2-5, 2022 to May 4-6, 2022. The trade mission has been rescheduled again from May 4-6, 2022, to June 28-30, 2022. The previously published March 15, 2022 deadline remains, but applications may be accepted after that date if space remains and scheduling constraints permit. Interested U.S. companies and trade associations/organizations that have not already submitted an application are encouraged to do so. The U.S. Department of Commerce will review applications and make selection decisions on a comparative basis in accordance with the Notice published at 86 FR 21697 (April 23, 2021). The applicants selected will be notified as soon as possible.

Contact

Jing Liu, Commercial Officer, U.S. Commercial Service, New Delhi, India, Tel: +91-11-2347 2000, Email: Jing.Liu@trade.gov

Arup Mitra, Senior Commercial Specialist, U.S. Commercial Service, Kolkata, India, Tel: +91-11-2347 2000, Email: Arup.Mitra@trade.gov

Megan Hyndman, India/Pakistan Desk Officer, Global Markets, Tel: +1-202-482-4437, Email: Megan.Hyndman@trade.gov

Haisum Shah, International Trade Specialist, U.S. Commercial Service—Oregon and SW Washington, Tel: +1-503-347-1708, Email: Haisum.Shah@trade.gov

David Dennis, International Trade Specialist, Office of Energy and Environmental Industries, Tel: 802.458.7678, Email: David.Dennis@trade.gov

Gemal Brangman,
Director, ITA Events Management Task Force.

[FR Doc. 2022-09426 Filed 5-2-22; 8:45 am]

BILLING CODE 3510-DR-P